DEPARTMENT OF AGRICULTURE

Agricultural Marketing Service

[Doc. No. AMS-SC-22-0038]

Notice of Request for Approval of a New Information Collection

AGENCY: Agricultural Marketing Service, USDA.

ACTION: Notice and request for comments.

SUMMARY: In accordance with the Paperwork Reduction Act of 1995, this notice announces the Agricultural Marketing Service's intent to request approval for a new information collection from the Office of Management and Budget (OMB) under OMB control No. 0581-NEW. This notice is based on a recommendation from the California Walnut Board (Board) to establish voluntary reporting for walnuts exempt from assessments under Federal marketing order no. 984, walnuts grown in California. This action would create a new form supplied by the Board to California walnut handlers to voluntarily report deliveries of walnuts exempt from assessments. The new form will be merged with the forms currently approved under OMB No. 0581-0178 Vegetable and Specialty Crops.

DATES: Comments on this notice must be received by January 2, 2024.

ADDRESSES: Interested persons are invited to submit comments concerning this notice to the Docket Clerk, Market Development Division, Specialty Crops Program, AMS, USDA, 1400 Independence Avenue SW, STOP 0237, Washington, DC 20250-0237; Fax: (202) 720-8938; or online at https://www.regulations.gov. All comments should reference OMB No. 0581-NEW and the Marketing Order for Walnuts Grown in California, Marketing Order No. 984, and the date and page of the Federal Register, and will be made available for public inspection in the Office of the Docket Clerk during regular business hours or can be viewed at: https://www.regulations.gov. All comments submitted in response to this notice will be included in the record and will be made available to the public. Please be advised that the identity of the individuals or entities submitting the comments will be made available to the public on the internet at the address provided above.

FOR FURTHER INFORMATION CONTACT: Joshua R. Wilde, Marketing Specialist, or Gary Olson, Chief, West Region Branch, Market Development Division, Specialty Crops Program, AMS, USDA; Telephone: (503) 326-2724, or Email: Joshua.R.Wilde@usda.gov or GaryD.Olson@usda.gov.

Small businesses may request information on this notice by contacting Richard Lower, Market Development Division, Specialty Crops Program, AMS, USDA, 1400 Independence Avenue SW, STOP 0237, Washington, DC 20250-0237; Telephone: (202) 720-8085, Fax: (202) 720-8938, or Email: Richard.Lower@usda.gov.

SUPPLEMENTARY INFORMATION:

Title: Walnuts Grown in California, Marketing Order No. 984.

OMB Number: 0581-NEW.

Expiration Date of Approval: This is a NEW Collection.

Type of Request: Approval of New Information Collection.

Abstract: The Agricultural Marketing Agreement Act of 1937, as amended (7 U.S.C. 601-674), hereinafter referred to as the “Act,” authorizes the Secretary of Agriculture to issue marketing orders that regulate the handling of any agricultural commodity specified in the Act, and to consider recommendations submitted by the administrative committees that manage the operations of such marketing orders. The individuals serving on an administrative committee are nominated by each commodity industry, are familiar with the handling of such commodity in their local area and are thus in a position to make recommendations to the Secretary.

The information requirements in this notice are essential to administer the Federal marketing order for walnuts grown in California, as amended, (7 CFR part 984), hereinafter referred to as the “Order”. The Order authorizes quality regulations, research and promotion, and provides for the establishment of the Board, which locally administers the Order.

On October 28, 2021, the Board recommended multiple proposed amendments to the Secretary, including the elimination of mandatory inspection and certification of walnuts and the creation of a new mechanism for determining and collecting handler assessments. After reviewing the proposals and other information submitted by the Board, USDA concluded the Board's proposals will tend to effectuate the declared policy of the Act and conducted a public hearing on April 19-20, 2022. During the hearing, USDA proposed that § 984.67 be amended to include exemptions that were inadvertently omitted in a previous revision. On August 21, 2023, the Final Rule published in the Federal Register [88 FR 56745], with an effective date September 20, 2023.

Under the Order handler assessment obligations are incurred at the time of certification, and provisions under § 984.67 exempt certain walnut sales from assessments and quality regulations. Therefore, walnuts considered exempt are not inspected, certified, and assessed. Under the new mechanism of determining and collecting assessments, handler assessments would be based on walnuts received rather than walnuts certified. Accordingly, effective September 20, 2023, walnut receipts for deliveries that previously would have been exempt, as those walnuts would not be inspected and certified, may now be subject to assessment. To ensure that those walnuts continue to be exempt from assessment and/or that handlers can receive a refund against their current year assessments for walnut deliveries exempt under § 984.67, the Board recommended the establishment of the new information collection form described below. The form designated as OMB No. 0581-NEW is voluntary and is titled (CWB Form No. 2) Report of Walnuts Exempt from Assessments. Depending on when handlers submit the form, submission would either ensure that walnuts that are exempt from assessment are not assessed or if they are assessed, handlers would be able to receive a refund. Once approved by OMB, USDA will request permission to merge the form into OMB No. 0581-0178 Vegetable and Specialty Crops collection that includes other forms related to the Order.

Estimate of Burden: Public reporting burden for this collection of information is estimated to average 5 minutes per response.

Respondents: Walnut handlers.

Estimated Number of Respondents: 14.

Estimated Number of Responses: 14.

Estimated Number of Responses per Respondent: 1.

Estimated Total Annual Burden on Respondents: 1.16 hours.

Comments are invited on: (1) Whether the proposed collection of the information is necessary for the proper performance of the functions of the agency, including whether the information will have practical utility; (2) the accuracy of the agency's estimate of the burden of the proposed collection of information; (3) ways to enhance the quality, utility and clarity of the information to be collected; and (4) ways to minimize the burden of the collection of information on those who are to respond, including through the use of appropriate automated, electronic, mechanical, or other technological collection techniques or other forms of information technology.

All responses to this notice will be summarized and included in the request for OMB approval. All comments will also become a matter of public record.

Authority: 44 U.S.C. Chapter 35.

Erin Morris,
Associate Administrator, Agricultural Marketing Service.

[FR Doc. 2023-24220 Filed 11-1-23; 8:45 am]

BILLING CODE P